DEPARTMENT OF ENERGY

Federal Energy Regulatory Commission

[Docket No. ER15-402-001; Docket No. ER15-817-000; Docket No. ER15-861-000; Docket No. EL15-53-000;]

California Independent System Operator Corporation; Notice of FERC Staff Attendance

The Federal Energy Regulatory Commission (Commission) hereby gives notice that on March 26, 2015 members of its staff will attend the California Independent System Operator Corporation's (CAISO) Board of Governors meeting. The agenda and other documents for the meeting are available on CAISO's Web site, www.caiso.com.

Sponsored by CAISO, the meeting is open to all market participants and staff's attendance is part of the Commission's ongoing outreach efforts. The meeting may discuss matters at issue in the above captioned dockets.

For further information, contact Saeed Farrokhpay at saeed.farrokhpay@ferc.gov (916) 294-0322.

Dated: March 24, 2015.
Kimberly D. Bose,
Secretary.

[FR Doc. 2015-07203 Filed 3-27-15; 8:45 am]

BILLING CODE 6717-01-P